DEPARTMENT OF DEFENSE

Department of the Army

Board of Visitors, Defense Language Institute Foreign Language Center

AGENCY: Department of the Army, DOD.

ACTION: Notice; cancellation.

SUMMARY: The Board of Visitors meeting scheduled for August 10 & 11, 2010 from 8 a.m. to 5 p.m. published in the Federal Register on Monday, July 26, 2010 (75 FR 43496) has been rescheduled. The Board of Visitors meeting will now be held on September 13 & 14, 2010 from 8 a.m. to 5 p.m. at the Defense Language Institute Foreign Language Center in Monterey, CA, 93944.

FOR FURTHER INFORMATION CONTACT: Mr. Detlev Kesten, Faculty Associate, DLIFLC, 1753 Lewis Road, Monterey, CA, 93944, at (831) 242-6670.

SUPPLEMENTARY INFORMATION: None.

Brenda S. Bowen,
Army Federal Register Liaison Officer.

[FR Doc. 2010-19547 Filed 8-6-10; 8:45 am]

BILLING CODE 3710-08-P